ENVIRONMENTAL PROTECTION AGENCY

40 CFR Part 52

[EPA-R01-OAR-2017-0107; FRL-9972-53-Region 1]

Air Plan Approval; Massachusetts; Revised Format for Materials Being Incorporated by Reference

AGENCY: Environmental Protection Agency (EPA).

ACTION: Final rule; administrative change.

SUMMARY: The Environmental Protection Agency (EPA) is revising the format for materials submitted by the Commonwealth of Massachusetts that are incorporated by reference (IBR) into the Massachusetts State Implementation Plan (SIP). The regulations and other materials affected by this format change have all been previously submitted by Massachusetts and approved by EPA as part of the SIP.

DATES: Effective Date: This final rule is effective on January 29, 2018.

ADDRESSES: EPA has established a docket for this action under Docket ID No. EPA-R01-OAR-2017-0107. SIP materials which are incorporated by reference into 40 CFR part 52 are available for inspection at the following locations: Environmental Protection Agency, Region 1, 5 Post Office Square, Boston, Massachusetts 02109-3912; and the National Archives and Records Administration (NARA). For information on the availability of this material at NARA, call (202) 741-6030, or go to: https://www.archives.gov/federal-register/cfr/ibr-locations.html.

FOR FURTHER INFORMATION CONTACT: Ariel Garcia, U.S. Environmental Protection Agency, EPA New England Regional Office, Office of Ecosystem Protection, Air Quality Planning Unit, 5 Post Office Square—Suite 100, (Mail code OEP05-2), Boston, MA 02109-3912, telephone number (617) 918-1660, fax number (617) 918-0660, email garcia.ariel@epa.gov.

SUPPLEMENTARY INFORMATION: Throughout this document whenever “we,” “us,” or “our” is used, we mean EPA. This supplementary information section is arranged as follows:

Table of Contents

I. Background

A. Description of a SIP

B. How EPA Enforces SIPs

C. How the State and EPA Update the SIP

D. How EPA Compiles the SIP

E. How EPA Organizes the SIP Compilation

F. Where You Can Find a Copy of the SIP Compilation

G. The Format of the New Identification of Plan Section

H. When a SIP Revision Becomes Part of the SIP and Federally Enforceable

I. The Historical Record of SIP Revision Approvals

II. What is EPA doing in this action?

III. Incorporation by Reference

IV. Statutory and Executive Order Reviews

I. Background

A. Description of a SIP

Each State has a SIP containing the control measures and strategies to attain and maintain the National Ambient Air Quality Standards (NAAQS). The SIP is extensive, containing such elements as air pollution control regulations, emission inventories, monitoring networks, attainment demonstrations, and enforcement mechanisms.

B. How EPA Enforces SIPs

Before formally adopting required control measures and strategies, each State must provide the public with an opportunity to comment on them. The States then submit these measures and strategies to EPA as requested SIP revisions on which EPA must formally act.

When these control measures and strategies are approved by EPA, after notice and comment rulemaking, they are incorporated into the Federally-approved SIP and identified in title 40 of the Code of Federal Regulations, part 52 (Approval and Promulgation of Implementation Plans) (40 CFR part 52). The actual State regulations approved by EPA are not reproduced in their entirety in 40 CFR part 52, but are “incorporated by reference,” which means that EPA has approved a given State regulation with a specific effective date. This format allows both EPA and the public to know which measures are contained in a given SIP and to help determine whether the State is enforcing the regulations.

C. How the State and EPA Update the SIP

The SIP is periodically revised as necessary to address the unique air pollution problems in the State. Therefore, EPA from time to time takes action on State SIP submissions containing new and/or revised regulations and other materials; if approved, they become part of the SIP. On May 22, 1997 (62 FR 27968), EPA revised the procedures for incorporating by reference federally approved SIPs, as a result of consultations between EPA and the Office of the Federal Register (OFR).

As a result, EPA began the process of developing the following: (1) A revised SIP document for each State that would be incorporated by reference under the provisions of title 1 CFR part 51; (2) a revised mechanism for announcing EPA approval of revisions to an applicable SIP and updating both the IBR document and the CFR; and (3) a revised format of the “Identification of plan” sections for each applicable subpart to reflect these revised IBR procedures. The description of the revised SIP document, IBR procedures, and “Identification of plan” format are discussed in further detail in the May 22, 1997, Federal Register document.

D. How EPA Compiles the SIP

The Federally-approved regulations, source-specific requirements, and nonregulatory provisions (entirely or portions of) submitted by each State agency and approved by EPA have been organized into a “SIP compilation.” The SIP compilation contains the updated regulations, source-specific requirements, and nonregulatory provisions approved by EPA through previous rulemaking actions in the Federal Register.

E. How EPA Organizes the SIP Compilation

Each SIP compilation contains three parts approved by EPA: Part one contains regulations; part two contains source-specific requirements; and part three contains nonregulatory provisions. Each State's SIP compilation contains a table of identifying information for each of these three parts. In this action, EPA is publishing the tables summarizing the applicable SIP requirements for Massachusetts. The effective dates in the tables indicate the date of the most recent revision of each regulation. The EPA Region 1 Office has the primary responsibility for updating the compilation and ensuring its accuracy.

F. Where You Can Find a Copy of the SIP Compilation

EPA's Region 1 Office developed and will maintain the compilation for Massachusetts. A copy of the full text of Massachusetts' regulatory and source-specific compilations will also be maintained at NARA.

G. The Format of the New Identification of Plan Section

To better serve the public, EPA revised the organization of the “Identification of plan” section and included additional information to clarify which provisions are the enforceable elements of the SIP.

The revised Identification of plan section contains five subsections: (a) Purpose and scope; (b) Incorporation by reference; (c) EPA-approved regulations; (d) EPA-approved source-specific requirements; and (e) EPA-approved nonregulatory provisions such as transportation control measures, statutory provisions, control strategies, and monitoring networks.

H. When a State Submission Becomes Part of the SIP and Federally Enforceable

All revisions to the applicable SIP become federally enforceable as of the effective date of the revisions to paragraphs (c), (d), or (e) of the applicable Identification of Plan section found in each subpart of 40 CFR part 52.

I. The Historical Record of SIP Revision Approvals

To facilitate enforcement of previously-approved SIP provisions and provide a smooth transition to the new SIP compilation, EPA has retained the original Identification of plan section, previously appearing in the CFR as the first or second section of part 52 for each State subpart. After an initial two-year period, EPA will review its experience with the new table format and will decide whether or not to retain the Identification of plan appendices for some further period.

II. What is EPA doing in this action?

Today's rule constitutes a record keeping exercise to ensure that all revisions to the State programs and accompanying SIP that have already occurred are accurately reflected in 40 CFR part 52. State SIP revisions are controlled by EPA regulations at 40 CFR part 51. When EPA receives a formal SIP revision request, the Agency must publish proposed rulemaking in the Federal Register and provide for public comment before approval.

EPA has determined that today's rule falls under the “good cause” exemption in section 553(b)(3)(B) of the Administrative Procedures Act (APA) which, upon finding “good cause,” authorizes agencies to dispense with public participation and section 553(d)(3) which allows an agency to make a rule effective immediately, thereby avoiding the 30-day delayed effective date otherwise provided for in the APA. Today's rule simply codifies provisions which are already in effect as a matter of law in Federal and approved State programs. Accordingly, we find that public comment is “unnecessary” and “contrary to the public interest” under section 553 of the APA, since the codification of the revised format for denoting IBR of the State materials into the SIP only reflects existing law and since immediate notice in the CFR benefits the public by removing outdated citations from the CFR.

III. Incorporation by Reference

In this rule, EPA is finalizing regulatory text that includes incorporation by reference. In accordance with requirements of 1 CFR 51.5, EPA is finalizing the incorporation by reference of the Massachusetts Regulations described in amendments to 40 CFR part 52 set forth below. EPA has made, and will continue to make, these documents generally available electronically through www.regulations.gov and/or in hard copy at the appropriate EPA office (see the ADDRESSES section of this preamble for more information).

IV. Statutory and Executive Order Reviews

A. General Requirements

Under Executive Order 12866 (58 FR 51735, October 4, 1993) and 13563 (76 FR 3821, January 21, 2011), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian Tribes, on the relationship between the Federal government and Indian Tribes, or on the distribution of power and responsibilities between the Federal government and Indian Tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 808(2). As stated previously, EPA has made such a good cause finding, including the reasons therefore, and established an effective date of January 29, 2018. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Massachusetts SIP compilation had previously afforded interested parties the opportunity to file a petition for judicial review in the United States Court of Appeals for the appropriate circuit within 60 days of such rulemaking action. Thus, EPA sees no need in this action to reopen the 60-day period for filing such petitions for judicial review for these “Identification of plan” reorganization actions for Massachusetts.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 24, 2017.
Deborah A. Szaro,
Acting Regional Administrator, EPA New England.

Part 52 of chapter I, title 40, Code of Federal Regulations, is amended as follows:

PART 52—APPROVAL AND PROMULGATION OF IMPLEMENTATION PLANS

1. The authority citation for Part 52 continues to read as follows:

Authority: 42 U.S.C. 7401, et seq.

Subpart W—Massachusetts

§ 52.1120 [Redesignated as § 52.1166 and Amended]

2. Redesignate § 52.1120 as § 52.1166, and revise the section heading and paragraph (a) to read as follows:

§ 52.1166 Original identification of plan section.

(a) This section identifies the original “Air Implementation Plan for the State of Massachusetts” and all revisions submitted by Massachusetts that were federally approved prior to January 20, 2017.

* * * * *

3. A new § 52.1120 is added to read as follows:

§ 52.1120 Identification of plan.

(a) Purpose and scope. This section sets forth the applicable State Implementation Plan (SIP) for Massachusetts under section 110 of the Clean Air Act, 42 U.S.C. 7401, and 40 CFR part 51 to meet National Ambient Air Quality Standards.

(b) Incorporation by reference. (1) Material listed in paragraphs (c) and (d) of this section with an EPA approval date prior to January 20, 2017, was approved for incorporation by reference by the Director of the Federal Register in accordance with 5 U.S.C. 552(a) and 1 CFR part 51. Entries in paragraphs (c) and (d) of this section with the EPA approval date after January 20, 2017 have been approved by EPA for inclusion in the State Implementation Plan and for incorporation by reference into the plan as it is contained in this section, and will be considered by the Director of the Federal Register for approval in the next update to the SIP compilation.

(2) EPA Region 1 certifies that the materials provided by EPA at the addresses in paragraph (b)(3) of this section are an exact duplicate of the officially promulgated state rules/regulations which have been approved as part of the SIP as of the dates referenced in paragraph (b)(1).

(3) Copies of the materials incorporated by reference into the SIP may be inspected at the EPA Region 1 Office, 5 Post Office Square, Boston, Massachusetts 02109-3912. You may also inspect the material with an EPA approval date prior to January 20, 2017 at the National Archives and Records Administration (NARA). For information on the availability of this material at NARA, call 202-741-6030, or go to: https://www.archives.gov/federal-register/cfr/ibr-locations.html.

(c) EPA-approved regulations.

EPA Approved Massachusetts Regulations
State citation | Title/subject | State effective date | EPA approval date ¹ | Explanations
310 CMR 6.04 | Standards | 7/25/1990 | 10/4/2002, 67 FR 62184 | Adopted PM10 as the criteria pollutant for particulates.
310 CMR 7.00 | Definitions | 1/2/2015 | 11/29/2016, 81 FR 85897 | Approved thirty-three new or updated definitions.
310 CMR 7.00 Appendix A | Emission Offsets and Nonattainment Review | 7/15/1994 and 4/14/1995 | 10/27/2000, 65 FR 64360 | Approving 1990 CAAA revisions and general NSR permit requirements.
310 CMR 7.00 Appendix B | Emission Banking, Trading and Averaging | 8/30/2013 | 10/9/2015, 80 FR 61101 | Approved amended language regarding emissions averaging bubbles.
Regulations for the Control of Air Pollution | Regulation 1 General Regulations to Prevent Air Pollution | 1/27/1972 | 5/31/1972, 37 FR 10841
Regulations for Prevention And/or Abatement of Air Pollution Episode and Air Pollution Incident Emergencies | Regulation 1 Introduction | 8/28/1972 | 10/28/1972, 37 FR 23085
Regulations for the Control of Air Pollution | Regulation 2 Plans Approval and Emission Limitations | 2/1/1978 | 3/15/1979, 44 FR 15703 | Regulation 2 is now known as 310 CMR 7.02.
Regulations for Prevention And/or Abatement of Air Pollution Episode and Air Pollution Incident Emergencies | Regulation 2 Definitions | 8/28/1972 | 10/28/1972, 37 FR 23085
310 CMR 7.02 | Plans Approval and Emission Limitations | 6/6/1994 | 4/5/1995, 60 FR 17226
Regulations for the Control of Air Pollution | Regulation 3 Nuclear Energy Utilization Facilities | 6/1/1972 | 10/28/1972, 37 FR 23085
310 CMR 7.03 | Plan Application Exemption Construction Requirements. Paint Spray Booths 310 CMR 7.03(13) | 2/17/1993 | 9/3/1999, 64 FR 48297
Regulations for the Control of Air Pollution | Regulation 4 Fossil Fuel Utilization Facilities | 1/27/1972 | 10/28/1972, 37 FR 23085 | Regulation 4 is now known as 310 CMR 7.04.
310 CMR 7.04 | U Fossil Fuel Utilization Facilities | 12/28/2007 | 4/24/2014, 79 FR 22774 | Only approved 7.04(2) and 7.04(4)(a).
Regulations for the Control of Air Pollution | Regulation 5 Fuels | 8/31/1978 | 3/7/1979, 44 FR 12421 | Regulation 5 is now known as 310 CMR 7.05. Portions of Regulation 5 have been replaced with the approval of 310 CMR 7.05.
310 CMR 7.05 | Fuels All Districts | 9/23/2005 | 5/29/2014, 79 FR 30741 | Removed landfill gas from requirements of section.
Regulations for the Control of Air Pollution | Regulation 6 Visible Emissions | 8/28/1972 | 10/28/1972, 37 FR 23085 | Regulation 6 is now known as 310 CMR 7.06.
310 CMR 7.07 | Open Burning | 9/28/1979 | 6/17/1980, 45 FR 40987
Regulations for the Control of Air Pollution | Regulation 8 Incinerators | 8/28/1972 | 10/28/1972, 37 FR 23085 | Regulation 8 is now known as 310 CMR 7.08.
310 CMR 7.08 | Incinerators. Municipal Waste Combustors 310 CMR 7.08(2) | 1/11/1999 | 9/2/1999, 64 FR 48095
Regulations for the Control of Air Pollution | Regulation 9 Dust and Odor | 12/9/1977 | 9/29/1978, 43 FR 44841 | Regulation 9 is now known as 310 CMR 7.09.
Regulations for the Control of Air Pollution | Regulation 10 Noise | 6/1/1972 | 10/28/1972, 37 FR 23085 | Regulation 10 is now known as 310 CMR 7.10.
Regulations for the Control of Air Pollution | Regulation 11 Transportation Media | 6/1/1972 | 10/28/1972, 37 FR 23085 | Regulation 11 is now known as 310 CMR 7.11. This regulation restricts idling.
310 CMR 7.12 | U Source Registration | 12/28/2007 | 4/24/2014, 79 FR 22774 | Approved Section 7.12(1) through 7.12(4) with the except of 7.12(2)(a)(3) which was not approved.
Regulations for the Control of Air Pollution | Regulation 13 Stack Testing | 6/1/1972 | 10/28/1972, 37 FR 23085 | Regulation 13 is now known as 310 CMR 7.13.
310 CMR 7.14 | Monitoring Devices and Reports | 11/21/1986 1/15/1987 | 3/10/1989, 54 FR 10147
Regulations for Prevention And/or Abatement of Air Pollution Episode and Air Pollution Incident Emergencies | Regulation 15. Asbestos | 8/28/1972 | 10/28/1972, 37 FR 23085 | Regulation 15 is now known as 310 CMR 7.15.
310 CMR 7.16 | Reduction of Single-Occupant Commuter Vehicle Use | 12/31/1978, 5/16/1979 | 9/16/1980, 45 FR 61293
310 CMR 7.17 | Conversions to Coal | 1/22/1982 | 6/9/1982, 47 FR 25007
310 CMR 7.18 | Volatile and Halogenated Organic Compounds | 8/30/2013 | 10/9/2015, 80 FR 61101 | Approved revisions to 7.18(1)(d) and (f); 7.18(2)(b), (e), and (f); 7.18(20)(a) and (b); and 7.18(30).
310 CMR 7.19 | Reasonably Available Control Technology (RACT) for Sources of Oxides of Nitrogen (NOX) | 8/30/2013 | 10/9/2015, 80 FR 61101 | Approved revisions to 7.19(1)(c)(9).
310 CMR 7.24 | Organic Material Storage and Distribution | 1/2/2015 | 11/29/2016, 81 FR 85897 | Revised to require the decommissioning of Stage II vapor recovery systems and require Stage I Enhanced Vapor Recovery systems certified by the California Air Resources Board.
310 CMR 7.25 | Best Available Controls for Consumer and Commercial Products | 10/19/2007 | 10/9/2015, 80 FR 61101 | Approved amended existing consumer products related requirements, added provisions concerning AIM coatings.
310 CMR 7.26 | Industry Performance Standards | 12/28/2007 | 4/24/2014, 79 FR 22774 | EPA did not approve 310 CMR 7.26 (1) through 7.26 (29), or 310 CMR 7.26 (38) through 7.26 (49) into the Massachusetts SIP.
310 CMR 7.27 | NOX Allowance Program | 11/19/1999 | 12/27/2000, 65 FR 81743
310 CMR 7.28 | NOX Allowance Trading Program | 3/30/2007 | 12/3/2007, 72 FR 67854
310 CMR 7.29 | Emissions Standards for Power Plants | 1/25/2008, 6/29/2007 | 9/19/2013 78 FR 57487 | Only approving the SO2 and NOX requirements.
|  |  |  | The following exceptions which are not applicable to the Massachusetts Alternative to BART were not approved:
|  |  |  | (1) In 310 CMR 7.29(1), the reference to mercury (Hg), carbon monoxide (CO), carbon dioxide (CO2), and fine particulate matter (PM2.5) in the first sentence and the phrase “ . . . and CO2 and establishing a cap on CO2 and Hg emissions from affected facilities. CO2 emissions standards set forth in 310 CMR 7.29(5)(a)5.a. and b. shall not apply to emissions that occur after December 31, 2008” in the second sentence.
|  |  |  | (2) In 310 CMR 7.29(2), the definitions of Alternate Hg Designated Representative, Automated Acquisition and Handling System or DAHS, Mercury (Hg) Designated Representative, Mercury Continuous Emission Monitoring System or Mercury CEMS, Mercury Monitoring System, Sorbent Trap Monitoring System, and Total Mercury;
|  |  |  | (3) 310 CMR 7.29(5)(a)(3) through (5)(a)(6);
|  |  |  | (4) In 310 CMR 7.29(5)(b)(1), reference to compliance with the mercury emissions standard in the second sentence;
|  |  |  | (5) 310 CMR 7.29(6)(a)(3) through (6)(a)(4);
|  |  |  | (6) 310 CMR 7.29(6)(b)(10);
|  |  |  | (7) 310 CMR 7.29(6)(h)(2);
|  |  |  | (8) The third and fourth sentences in 310 CMR 7.29(7)(a);
|  |  |  | (9) In 310 CMR 7.29(7)(b)(1), the reference to CO2 and mercury;
|  |  |  | (10) In 310 CMR 7.29(7)(b)(1)(a), the reference to CO2 and mercury;
|  |  |  | (11) 310 CMR 7.29(7)(b)(1)(b) through 7.29(7)(b)(1)(d);
|  |  |  | (12) In 310 CMR 7.29(7)(b)(3), the reference to CO2 and mercury;
|  |  |  | (13) In 310 CMR 7.29(7)(b)(4)(b), the reference to CO2 and mercury; and
|  |  |  | (14) 310 CMR 7.29(7)(e) through 7.29(7)(i).
310 CMR 7.30 | Massport/Logan Airport Parking Freeze | 12/26/2000 | 3/12/2001, 66 FR 14318 | Applies to the parking of motor vehicles on Massport property.
310 CMR 7.31 | City of Boston/East Boston Parking Freeze | 12/26/2000 | 3/12/2001, 66 FR 14318 | Applies to the parking of motor vehicles within the area of East Boston.
310 CMR 7.32 | Massachusetts Clean Air Interstate Rule (Mass CAIR) | 3/30/2007 | 12/3/2007, 72 FR 67854
310 CMR 7.33 | City of Boston/South Boston Parking Freeze | 7/30/1993 | 10/15/1996, 61 FR 53628 | Applies to the parking of motor vehicles within the area of South Boston, including Massport property in South Boston.
310 CMR 7.36 | Transit System Improvements | 10/25/2013 | 12/8/2015, 80 FR 76225 | Removes from the SIP the commitment to design the Red Line/Blue Line Connector project.
310 CMR 7.37 | High Occupancy Vehicle Lanes | 12/9/1991 | 10/4/1994, 59 FR 50495 | High Occupancy Vehicle Lanes Regulation for Boston Metropolitan Area.
310 CMR 7.38 | Certification of Tunnel Ventilation Systems in the Metropolitan Boston Air Pollution Control District | 12/30/2005 | 2/15/2008, 73 FR 8818
310 CMR 7.40 | Low Emission Vehicle Program | 12/24/1999 | 12/23/2002, 67 FR 78179 | “Low Emission Vehicle Program” (LEV II) except for 310 CMR 7.40(2)(a)(5), 310 CMR 7.40(2)(a)(6), 310 CMR 7.40(2)(c)(3), 310 CMR 7.40(10), and 310 CMR 7.40(12).
Regulations for the Control of Air Pollution | Regulation 50 Variances | 9/14/1974 | 2/4/1977, 42 FR 6812 | Regulation 50 is now known as 310 CMR 7.50.
Regulations for the Control of Air Pollution | Regulation 51 Hearings Relative To Orders and Approvals | 8/28/1972 | 10/28/1972, 37 FR 23085 | Regulation 51 is now known as 310 CMR 7.51.
Regulations for the Control of Air Pollution | Regulation 52 Enforcement Provisions | 8/28/1972 | 10/28/1972, 37 FR 23085 | Regulation 52 is now known as 310 CMR 7.52.
Regulations for Prevention And/or Abatement of Air Pollution Episode and Air Pollution Incident Emergencies | Regulation 8 Emission Reduction Plans (ERP) | 2/22/1972 | 10/28/1972, 37 FR 23085 | Regulation 8 is now Known as 310 CMR 8.00.
310 CMR 8.02 and 8.03 | The Prevention and/or Abatement of Air Pollution Episode and Air Pollution Incident Emergencies | 7/25/1990 | 10/4/2002, 67 FR 62184 | 8.02 Definitions; 8.03 Air Pollution Episode Criteria.
310 CMR 60.02 | Regulations for the Enhanced Motor Vehicle Inspection and Maintenance Program | 9/5/2008 | 1/25/2013, 78 FR 5292 | Revises enhanced I/M test requirements to consist of “OBD2-only” testing program. Approving submitted regulation with the exception of subsection 310 CMR 60.02(24)(f).
540 CMR 4.00 | Annual Safety and Combined Safety and Emissions Inspection of all Motor Vehicles, Trailers, Semi-trailers and converter Dollies | 9/5/2008 | 1/25/2013, 78 FR 5292 | Revises Requirement for Inspection and Enforcement of I/M Program.
Massachusetts General Laws, Part IV, Title I, Chapter 268A, Sections 6 and 6A | Conduct of Public Officials and Employees | Amended by Statute in 1978 and 1984 | 12/21/2016, 81 FR 93624 | Approved Section 6: Financial interest of state employee, relative or associates; disclosure, and Section 6A: Conflict of interest of public official; reporting requirement.
¹ To determine the EPA effective date for a specific provision listed in this table, consult the Federal Register notice cited in this column for the particular provision.

(d) EPA-approved State Source specific requirements.

EPA-Approved Massachusetts Source Specific Requirements
Name of source | Permit number | State effective date | EPA approval date ² | Explanations
Cambridge Electric Light Company's Kendall Station, First Street, Cambridge, MA | Cambridge Electric Light Company Variance | Submitted 12/28/78 | 6/17/1980, 45 FR 40987 | Regulation 310 CMR 7.04(5), Fuel Oil Viscosity; Revision for Cambridge Electric Light Company's Kendall Station, First Street, Cambridge, MA.
Blackstone Station, Blackstone Street, Cambridge, MA | Cambridge Electric Light Company Variance | Submitted 12/28/1978 | 6/17/1980, 45 FR 40987 | Regulation 310 CMR 7.04(5), Fuel Oil Viscosity; Revision for Cambridge Electric Light Company's Blackstone Station, Blackstone Street, Cambridge, MA.
Holyoke Water Power Company, Mount Tom Plant, Holyoke, MA | Holyoke Water Power Company Operations | Submitted 1/22/1982 | 6/9/1982, 47 FR 25007 | A revision specifying the conditions under which coal may be burned at the Holyoke Water Power Company, Mount Tom Plant, Holyoke, MA.
Esleeck Manufacturing Company, Inc., Montague, MA | Esleek Manufacturing Emission Limit | Submitted 2/8/1983 | 4/28/1983, 48 FR 19173 | Source specific emission limit allowing the Company to burn fuel oil having a maximum sulfur content of 1.21 pounds per million Btu heat release potential provided the fuel firing rate does not exceed 137.5 gallons per hour.
Erving Paper company, Erving, MA | Erving Paper Company Operations | Submitted 7/18/1984, 4/17/1985, and 11/25/1987 | 2/15/1990, 55 FR 5447 | A revision approving sulfur-in-fuel limitations.
Monsanto Chemical Company in Indian Orchard, MA | Monsanto Chemical Company Operations | 6/20/1989 | 2/21/1990, 55 FR 5986 | Revisions which define and impose reasonably available control technology to control volatile organic compound emissions from Monsanto Chemical Company in Indian Orchard, MA. Including a final RACT Compliance Plan.
Spalding Sports Worldwide in Chicopee, MA | PV-85-IF-019 | 7/12/1989 and 10/7/1985 | 11/8/1989, 54 FR 46894 | Amendments to the Conditional Plans imposing reasonably available control technology.
Duro Textile Printers, Incorporated in Fall River, MA | SM-85-168-IF | 8/1/1989 and 8/8/1989 | 11/8/1989, 54 FR 46896 | Amended Conditional Plan Approval (SM-85-168-IF) dated and effective August 1, 1989 and an Amendment to the Amended Conditional Plan Approval (SM-85-168-IF Revision) dated and effective August 8, 1989 imposing reasonably available control.
Acushnet Company, Titleist Golf Division, Plant A in New Bedford, MA | SM-85-151-IF and 4-P-90-104 | 6/1/1990 | 2/27/1991, 56 FR 8130 | An Amended Plan imposing reasonably available control technology.
General Motors Corporation in Framingham, MA | General Motors Operations | 6/8/1990 | 2/19/1991, 56 FR 6568 | An Amended Plan imposing reasonably available control technology.
Erving Paper Mills in Erving, MA | Erving Paper Company Operations | 10/16/1990 | 3/20/1991, 56 FR 11675 | Revisions which define and impose RACT to control volatile organic compound emissions. Including a conditional final plan approval issued by the Massachusetts Department of Environmental Protection (MassDEP).
Erving Paper Mills in Erving, MA | Erving Paper Company Operations | 4/16/1991 | 10/8/1991, 56 FR 50659 | Revisions which clarify the requirements of RACT to control volatile organic compound emissions. Including a conditional final plan approval amendment that amends the October 16, 1990 conditional plan approval.
Brittany Dyeing and Finishing of New Bedford, MA | 4-P-92-012 | 3/16/1994 | 3/6/1995, 60 FR 12123 | Final Plan Approval No. 4P92012, imposing reasonably available control technology.
Specialty Minerals, Incorporated, Adams, MA | 1-P-94-022 | 6/16/1995 | 9/2/1999, 64 FR 48095 | Emission Control Plan (Reasonably Available Control Technology for Sources of Oxides of Nitrogen).
Monsanto Company's Indian Orchard facility, Springfield, MA | 1-E-94-106 | 10/28/1996 | 9/2/1999, 64 FR 48095 | Emission Control Plan (Reasonably Available Control Technology for Sources of Oxides of Nitrogen).
Medusa Minerals Company in Lee, MA | 1-E-94-110 | 4/17/1998 | 9/2/1999, 64 FR 48095 | Emission Control Plan (Reasonably Available Control Technology for Sources of Oxides of Nitrogen).
Gillette Company Andover Manufacturing Plant | MBR-92-IND-053 | Submitted 2/17/1993, 4/16/1999, and 10/7/1999 | 10/4/2002, 67 FR 62179 | Reasonably Available Control Technology Plan Approval issued on June 17, 1999.
Norton Company | C-P-90-083 | Submitted 2/17/1993, 4/16/1999, and 10/7/1999 | 10/4/2002, 67 FR 62179 | Reasonably Available Control Technology Plan Approval issued on August 5, 1999.
Barnet Corporation | Barnet Corporation Operations | Submitted 2/17/1993, 4/16/1999, and 10/7/1999 | 10/4/2002, 67 FR 62179 | Reasonably Available Control Technology Plan Approval issued on May 14, 1991.
Solutia | 1-P-92-006 | Submitted 2/17/1993, 4/16/1999, and 10/7/1999 | 10/4/2002, 67 FR 62179 | 310 CMR 7.02 BACT plan approvals issued by the MassDEP.
Saloom Furniture | Saloom Winchendon Operations | Submitted 2/17/1993, 4/16/1999, and 10/7/1999 | 10/4/2002, 67 FR 62179 | 310 CMR 7.02 BACT plan approvals issued by the MassDEP.
Eureka Manufacturing | 4-P-95-094 | Submitted 2/17/1993, 4/16/1999, and 10/7/1999 | 10/4/2002, 67 FR 62179 | 310 CMR 7.02 BACT plan approvals issued by the MassDEP.
Moduform | Moduform Operations | Submitted 2/17/1993, 4/16/1999, and 10/7/1999 | 10/4/2002, 67 FR 62179 | 310 CMR 7.02 BACT plan approvals issued by the MassDEP.
Polaroid | MBR-99-IND-001 | Submitted 2/17/1993, 4/16/1999, and 10/7/1999 | 10/4/2002, 67 FR 62179 | 310 CMR 7.02 BACT plan approvals issued by the MassDEP.
Globe | 4-P-96-151 | Submitted 2/17/1993, 4/16/1999, and 10/7/1999 | 10/4/2002, 67 FR 62179 | 310 CMR 7.02 BACT plan approvals issued by the MassDEP.
Wheelabrator Saugus, Inc | MBR-98-ECP-006 | Submitted 12/30/2011, 8/9/2012, and 8/28/2012 | 9/19/2013, 78 FR 57487 | The sulfur dioxide (SO2), oxides of nitrogen (NOX), and PM2.5 provisions of the MassDEP Emission Control Plan “Saugus—Metropolitan, Boston/Northeast Region, 310 CMR 7.08(2)—Municipal Waste Combustors, Application No. MBR-98-ECP-006, Transmittal No. W003302, Emission Control Plan Modified Final Approval” dated March 14, 2012 to Mr. Jairaj Gosine, Wheelabrator Saugus, Inc. and signed by Cosmo Buttaro and James E. Belsky, with the following exceptions which are not applicable to the Massachusetts Alternative to BART.
General Electric Aviation | MBR-94-COM-008 | Submitted 12/30/2011, 8/9/2012, and 8/28/2012 | 9/19/2013, 78 FR 57487 | The MassDEP Emission Control Plan “Lynn—Metropolitan, Boston/Northeast Region, 310 CMR 7.19, Application No. MBR-94-COM-008, Transmittal No. X235617, Modified Emission Control Plan Final Approval” dated March 24, 2011 to Ms. Jolanta Wojas, General Electric Aviation and signed by Marc Altobelli and James E. Belsky. Note, this document contains two section V; V. RECORD KEEPING AND REPORTING REQUIREMENTS and V. GENERAL REQUIREMENTS/PROVISIONS.
Mt. Tom Generating Company, LLC | 1-E-01-072 | Submitted 12/30/2011, 8/9/2012, and 8/28/2012 | 9/19/2013, 78 FR 57487 | The MassDEP Emission Control Plan, “Holyoke Western Region 310 CMR 7.29 Power Plant Emission Standards, Application No. 1-E-01-072, Transmittal No. W025214, Amended Emission Control Plan” dated May 15, 2009 to Mr. John S. Murry, Mt. Tom Generating Company, LLC and signed by Marc Simpson, with the following exceptions which are not applicable to the Massachusetts Alternative to BART.
Dominion Energy Salem Harbor, LLC | NE-12-003 | Submitted 12/30/2011, 8/9/2012, and 8/28/2012 | 9/19/2013, 78 FR 57487 | The MassDEP Emission Control Plan “Salem—Metropolitan Boston/Northeast Region, 310 CMR 7.29 Power Plant Emission Standards, Application No. NE-12-003, Transmittal No. X241756, Final Amended Emission Control Plan Approval” dated March 27, 2012 to Mr. Lamont W. Beaudette, Dominion Energy Salem Harbor, LLC and signed by Edward J. Braczyk, Cosmo Buttaro, and James E. Belsky with the following exceptions which are not applicable to the Massachusetts Alternative to BART.
Dominion Energy Brayton Point, LLC | SE-12-003 | Submitted 12/30/2011, 8/9/2012, and 8/28/2012 | 9/19/2013, 78 FR 57487 | MassDEP Emission Control Plan “Amended Emission Control Plan Final Approval Application for: BWP AQ 25, 310 CMR 7.29 Power Plant Emission Standards, Transmittal Number X241755, Application Number SE-12-003, Source Number: 1200061” dated April 12, 2012 to Peter Balkus, Dominion Energy Brayton Point, LLC and signed by John K. Winkler, with the following exceptions which are not applicable to the Massachusetts Alternative to BART.
Somerset Power LLC | Facility Shutdown | Submitted 12/30/2011, 8/9/2012, and 8/28/2012 | 9/19/2013 78 FR 57487 | MassDEP letter “Facility Shutdown, FMF Facility No. 316744” dated June 22, 2011 to Jeff Araujo, Somerset Power LLC and signed by John K. Winkler.
² To determine the EPA effective date for a specific provision listed in this table, consult the Federal Register notice cited in this column for the particular provision.

(e) Nonregulatory.

Massachusetts Non Regulatory
Name of non regulatory SIP provision | Applicable geographic or nonattainment area | State submittal date/effective date | EPA approved date ³ | Explanations
Miscellaneous non-regulatory changes to the plan submitted by the Division of Environmental Health, Massachusetts Department of Public Health |  | 4/27/72 | 10/28/72, 37 FR 23085 |
Miscellaneous non-regulatory additions to the plan submitted by the Bureau of Air Quality Control, Massachusetts Department of Public Health |  | 5/5/72 | 10/28/72, 37 FR 23085 |
Letter of concurrence on AQMA identifications submitted on July 23, 1974, by the Governor |  | 7/23/74 | 6/2/75, 40 FR 23746 |
Letter dated February 8, 1979 from Kenneth Hagg of the Massachusetts Department of Environmental Quality Engineering (DEQE) to Frank Ciavattieri of the Environmental Protection Agency |  | 2/8/79 | 5/14/79, 44 FR 27991 |
Non-attainment area plan for Total Suspended Particulates (TSP) in Worcester |  | 3/30/1979 and 4/23/1979 | 1/10/1980, 45 FR 2036 |
Miscellaneous statewide regulation changes |  | 3/30/1979 and 4/23/1979 | 1/10/1980, 45 FR 2036 |
An extension request for the attainment of TSP secondary standards for areas designated non-attainment as of March 3, 1978 |  | 3/30/1979 and 4/23/1979 | 1/10/1980, 45 FR 2036 |
Revision entitled “Massachusetts Implementation Plan, Amended Regulation—All Districts, New Source Review Element,” relating to construction and operation of major new or modified sources in non-attainment areas |  | 5/3/1979, 8/7/1979, and 5/17/1980 | 1/10/1980, 45 FR 2036 |
Revision to the state ozone standard and adoption of an ambient lead standard |  | 8/21/79 | 6/17/1980, 45 FR 40987 |
Attainment plans to meet the requirements of Part D for carbon monoxide and ozone and other miscellaneous provisions |  | 12/31/1978 and 5/16/1979 | 9/16/1980, 45 FR 61293 |
Supplemental information to the Attainment plans to meet the requirements of Part D for carbon monoxide and ozone and other miscellaneous provisions |  | 9/19/1979, 11/13/1979, and 3/20/1980 | 9/16/1980, 45 FR 61293 |
Supplemental information to the Attainment plans to meet the requirements of Part D for carbon monoxide and ozone and other miscellaneous provisions |  | 12/7/1979 and 4/7/1980 | 8/27/1981, 46 FR 43147 |
A revision entitled “Appendix J Transportation Project Level Guidelines” relating to policy guidance on the preparation of air quality analysis for transportation projects |  | 1/5/1981 | 9/3/1981, 46 FR 44186 |
A comprehensive air quality monitoring plan, intended to meet requirements of 40 CFR part 58 |  | 1/28/1980 | 3/4/1981, 46 FR 15137 |
Revisions to meet the requirements of Part D and certain other sections of the Clean Air Act, as amended, for making a commitment to public transportation in the Boston urban region |  | 7/9/1981 and 7/30/1981 | 9/28/1981, 46 FR 47450 |
Letter clarifying State procedures |  | 11/12/1981 | 3/29/82, 47 FR 13143 |
The Massachusetts DEQE submitted an updated VOC emissions inventory |  | 9/3/1981 | 1/25/1982, 47 FR 3352 |
Procedures to annually update the VOC emission inventory on November 4, 1981 |  | 11/4/1981 | 1/25/1982, 47 FR 3352 |
Massachusetts Department of Environmental Protection (MassDEP) submittal for attainment plans for carbon monoxide and ozone | Statewide | 9/9/1982 | 11/09/1983, 48 FR 51480 |
MassDEP submittal for attainment plans for carbon monoxide and ozone | Statewide | 11/2/1982 | 11/09/1983, 48 FR 51480 |
MassDEP submittal for attainment plans for carbon monoxide and ozone | Statewide | 11/17/1982 | 11/09/1983, 48 FR 51480 |
MassDEP submittal for attainment plans for carbon monoxide and ozone | Statewide | 2/2/1983 | 11/09/1983, 48 FR 51480 |
MassDEP submittal for attainment plans for carbon monoxide and ozone | Statewide | 3/21/1983 | 11/09/1983, 48 FR 51480 |
MassDEP submittal for attainment plans for carbon monoxide and ozone | Statewide | 4/7/1983 | 11/09/1983, 48 FR 51480 |
MassDEP submittal for attainment plans for carbon monoxide and ozone | Statewide | 4/26/1983 | 11/09/1983, 48 FR 51480 |
MassDEP submittal for attainment plans for carbon monoxide and ozone | Statewide | 5/16/1983 | 11/09/1983, 48 FR 51480 |
A revision to exempt the Berkshire Air Pollution Control District from Regulation 310 CMR 7.02(12)(b)(2) | Berkshire | 3/25/1983 | 7/7/1983, 48 FR 31200 |
Revisions to the State's narrative, entitled New Source Regulations on page 117 and 118 | Statewide | 9/9/1982 | 7/7/1983, 48 FR 31197 |
Letter from the MassDEP dated June 7, 1991, submitting revisions to the SIP | Statewide | 6/7/1991 | 6/30/1993, 58 FR 34908 |
Letter from the MassDEP dated November 13, 1992 submitting revisions to the SIP | Statewide | 11/13/1992 | 6/30/1993, 58 FR 34908 |
Letter from the MassDEP dated February 17, 1993 submitting revisions to the SIP | Statewide | 2/17/1993 | 6/30/1993, 58 FR 34908 |
Nonregulatory portions of the state submittal | Statewide | 11/13/1992 | 6/30/1993, 58 FR 34908 |
Letter from Massachusetts DEQE | Statewide | 2/14/1985 | 9/25/1985, 50 FR 38804 |
Letter from Massachusetts DEQE | Statewide | 5/22/1985 | 9/25/1985, 50 FR 38804 |
Enforcement manual including Method 27, record form, potential leak points, major tank truck leak sources, test procedure for gasoline vapor leak detection procedure by combustible gas detector, instruction manual for Sentox 2 and Notice of Violation | Statewide | 5/22/1985 | 9/25/1985, 50 FR 38804 |
Letter from Massachusetts DEQE stating authority to undertake preconstruction review of new stationary sources of air pollution with potential to emit 5 tons or more of lead | Statewide | 8/17/1984 | 10/30/1984, 49 FR 43546 |
Letter from Massachusetts DEQE submitting the Massachusetts Lead Implementation Plan | Statewide | 7/13/1984 | 10/30/1984, 49 FR 43546 |
Massachusetts attainment and maintenance plans for lead | Statewide | 7/13/1984 | 10/30/1984, 49 FR 43546 |
Memorandum from Donald C. Squires to Bruce K. Maillet, subject: Response to EPA questions regarding Phillips Academy, outlines the permanent energy conservation measures to be used | Merrimack Valley | 10/4/1985 | 4/1/1986, 51 FR 11019 |
Letter from the Massachusetts DEQE dated December 3, 1985 | Statewide | 12/3/1985 | 11/25/1986, 51 FR 42563 |
Letter from the Massachusetts DEQE dated January 31, 1986 | Statewide | 1/31/1986 | 11/25/1986, 51 FR 42563 |
Letter from the Massachusetts DEQE dated February 11, 1986. The nonregulatory portions of the state submittals | Statewide | 2/11/1986 | 11/25/1986, 51 FR 42563 |
Letter from the Massachusetts DEQE dated November 21, 1986 | Statewide | 11/21/1986 | 3/10/1989, 54 FR 10147 |
The Commonwealth of Massachusetts Regulation Filing document dated January 15, 1987 states that these regulatory changes became effective on February 6, 1987 | Statewide | 1/15/1987 | 3/10/1989, 54 FR 10147 |
Letter from the Massachusetts Massachusetts DEQE dated February 21, 1986 | Statewide | 2/21/1986 | 8/31/1987, 52 FR 32791 |
A Regulation Filing and Publication document from the Massachusetts DEQE, dated February 25, 1986 | Statewide | 2/25/1986 | 8/31/1987, 52 FR 32791 |
A letter from the Massachusetts DEQE, dated June 23, 1986 | Statewide | 6/23/1986 | 8/31/1987, 52 FR 32791 |
Implementation Guidance, 310 CMR 7.18(18), Polystyrene Resin Manufacturing, dated February 1986 | Statewide | 2/01/1986 | 8/31/1987, 52 FR 32791 |
Massachusetts DEQE certification that there are no polypropylene and polyethylene manufacturing sources located in the Commonwealth of Massachusetts, dated November 8, 1985 | Statewide | 11/8/1985 | 8/31/1987, 52 FR 32791 |
Letter dated November 5, 1986 from the Massachusetts DEQE submitting revisions to the SIP | Statewide | 11/5/1986 | 11/19/1987, 52 FR 44394 |
Letter from the Massachusetts DEQE dated December 10, 1986. Letter states that the effective date of Regulations 310 CMR 7.00, “Definitions” and 310 CMR 7.18(19), “Synthetic Organic Chemical Manufacture,” is November 28, 1986 | Statewide | 11/28/1986 | 11/19/1987, 52 FR 44394 |
Letter from the Massachusetts DEQE dated September 20, 1988 for a SIP revision involving regulations 310 CMR 7.18(2)(e) and 7.18(17) | Statewide | 7/5/1988 | 3/6/1989, 54 FR 9212 |
A Regulation Filing and Publication document from the Commonwealth of Massachusetts dated July 5, 1988 which states that the effective date of the regulatory amendments to 310 CMR 7.18(2)(e) and 310 CMR 7.18(17)(d), is July 22, 1988 | Statewide | 7/5/1988 | 3/6/1989, 54 FR 9212 |
Letter dated October 14, 1987 for the American Fiber and Finishing Company facility from Stephen F. Joyce, Deputy Regional Environmental Engineer, Massachusetts DEQE | Pioneer Valley | 10/14/1987 | 2/15/1990, 55 FR 5447 |
Letter dated October 14, 1987 for the Erving Paper Company facility from Stephen F. Joyce, Deputy Regional Environmental Engineer, Massachusetts DEQE | Pioneer Valley | 10/14/1987 | 2/15/1990, 55 FR 5447 |
Letter dated October 14, 1987 for the Westfield River Paper Company facility from Stephen F. Joyce, Deputy Regional Environmental Engineer, Massachusetts DEQE | Pioneer Valley | 10/14/1987 | 2/15/1990, 55 FR 5447 |
Statement of agreement signed May 29, 1987 by Schuyler D. Bush, Vice President of Erving Paper Company | Pioneer Valley | 5/29/1987 | 2/15/1990, 55 FR 5447 |
Statement of agreement signed May 27, 1987 by Francis J. Fitzpatrick, President of Westfield River Paper Company | Pioneer Valley | 5/27/1987 | 2/15/1990, 55 FR 5447 |
Statement of agreement signed May 22, 1987 by Robert Young, Vice President of American Fiber and Finishing Company | Pioneer Valley | 5/22/1987 | 2/15/1990, 55 FR 5447 |
Letter dated April 22, 1987 for the Erving Paper Company facility from Stephen F. Joyce, Deputy Regional Environmental Engineer, Massachusetts DEQE | Pioneer Valley | 5/22/1987 | 2/15/1990, 55 FR 5447 |
Letter from the MassDEP dated July 18, 1989 submitting a revision to the SIP | Pioneer Valley | 7/18/1987 | 2/21/1990, 55 FR 5986 |
Letter from the MassDEP submitting a revision to the SIP | Pioneer Valley | 7/18/1989 | 11/8/1989, 54 FR 46894 |
Letter from the Massachusetts DEQE submitting a revision to the SIP | Central Massachusetts | 7/18/1989 | 11/3/1989, 54 FR 46386 |
Nonregulatory portions of the State submittal. Letter from the MassDEP submitting a revision to the SIP | Central Massachusetts | 2/4/1988 | 11/3/1989, 54 FR 46386 |
Nonregulatory portions of the State submittal. List of documents in the February 4, 1988 RACT SIP submittal to EPA.t | Central Massachusetts | 2/10/88 | 11/3/1989, 54 FR 46386 |
Letter from the MassDEP submitting a revision to the SIP | Southeastern Massachusetts | 8/8/1989 | 11/8/1989, 54 FR 46896 |
Letter from the MassDEP submitting a revision to the SIP | Statewide | 8/24/1989 | 4/19/1990, 55 FR 14831 |
Letter from the MassDEP submitting a revision to the SIP | Statewide | 10/16/1989 | 4/19/1990, 55 FR 14831 |
Letter from the MassDEP submitting a revision to the SIP | Statewide | 8/27/1982 | 2/23/1993, 58 FR 10964 |
Letter from the MassDEP certifying that it did not rely on a dual definition in its attainment demonstration | Statewide | 6/22/1987 | 2/23/1993, 58 FR 10964 |
Letter from the MassDEP submitting additional assurances that it is making reasonable efforts to develop a complete and approve SIP | Statewide | 12/27/1989 | 2/23/1993, 58 FR 10964 |
Letter from the MassDEP submitting a revision to the SIP | Metropolitan Boston | 11/28/1989 | 8/3/1990, 55 FR 31587 |
Letter from the MassDEP submitting a revision to the SIP | Metropolitan Boston | 11/28/1989 | 8/3/1990, 55 FR 31590 |
Letter from the Massachusetts Department of Environmental submitting a revision to the SIP | Metropolitan Boston | 11/20/1989 | 8/27/1990, 55 FR 34914 |
Letter from the MassDEP submitting a revision to the SIP | Southeastern Massachusetts | 6/13/1990 | 2/27/1991, 56 FR 8130 |
Letter from the MassDEP submitting a revision to the SIP | Metropolitan Boston | 7/9/1990 | 2/19/1991, 56 FR 6568 |
Letter from the MassDEP submitting a revision to the SIP | Pioneer Valley | 10/25/1990 | 3/20/1991, 56 FR 11675 |
Letter from the MassDEP submitting a revision to the SIP | Pioneer Valley | 4/22/1991 | 10/8/1991, 56 FR 50659 |
Letter from the MassDEP submitting a revision to the SIP | Statewide | 8/17/1989 | 10/8/1992, 57 FR 46313 |
Letter from the MassDEP submitting a revision to the SIP | Statewide | 6/7/1991 | 10/8/1992, 57 FR 46313 |
Letter from the MassDEP withdrawing the emission limit for the Primer-surfacer application from the June 7, 1991 submittal | Statewide | 12/17/1991 | 10/8/1992, 57 FR 46313 |
Nonregulatory portions of state submittal. MassDEP's Decision Memorandum for Proposed amendments to 310 CMR 7.00 | Statewide | 5/24/1991 | 10/8/1992, 57 FR 46313 |
Nonregulatory portions of state submittal. MassDEP's Decision Memorandum for Proposed amendments to 310 CMR 7.00, 7.18 and 7.24 | Statewide | 2/25/1991 | 10/8/1992, 57 FR 46313 |
Letter from the MassDEP submitting revisions to the SIP | Statewide | 8/27/1982 | 1/11/1993, 58 FR 3492 |
Letter from the MassDEP submitting revisions to the SIP | Statewide | 4/12/1985 | 1/11/1993, 58 FR 3492 |
Letter from the MassDEP submitting revisions to the SIP | Statewide | 8/17/1989 | 1/11/1993, 58 FR 3492 |
Letter from the MassDEP submitting revisions to the SIP | Statewide | 6/7/1991 | 1/11/1993, 58 FR 3492 |
Letter from the Massachusetts DEQE submitting 310 CMR 7.00: Appendix B | Statewide | 6/27/1984 | 1/11/1993, 58 FR 3492 |
Letter from the Massachusetts DEQE submitting additional information on 310 CMR 7.00: Appendix B and referencing 310 CMR 7.18(2)(b) | Statewide | 3/6/1985 | 1/11/1993, 58 FR 3492 |
Letter from the MassDEP withdrawing the emission limit for the Primer-surfacer application in 310 CMR 7.18(7)(b) from the June 7, 1991 submittal | Statewide | 12/17/1991 | 1/11/1993, 58 FR 3492 |
Letter from the MassDEP submitting a revision to the SIP | Metropolitan Boston | 8/4/1989 | 3/16/1993, 58 FR 14153 |
Letter from the MassDEP submitting a revision to the SIP | Metropolitan Boston | 12/6/1989 | 3/16/1993, 58 FR 14153 |
Letter from the MassDEP submitting a revision to the SIP | Metropolitan Boston | 3/23/1990 | 3/16/1993, 58 FR 14153 |
Technical amendments to regulation (310 CMR 7.31) submitted by the MassDEP | Metropolitan Boston | 3/30/1990 | 3/16/1993, 58 FR 14153 |
Appendix 5D, Baseline and Future Case CO Compliance Modeling, dated June 1986 | Metropolitan Boston | 6/1/1986 | 3/16/1993, 58 FR 14153 |
Policy Statement Regarding the Proposed Amendment to the Logan Airport Parking Freeze | Metropolitan Boston | 11/14/1988 | 3/16/1993, 58 FR 14153 |
Letter from the MassDEP dated May 15, 1992 submitting a revision to the SIP | Metropolitan Boston | 5/15/1991 | 12/14/1992, 57 FR 58991 |
Letter from the MassDEP dated January 30, 1991 submitting a revision to the SIP. Certification of Tunnel Ventilation Systems in Boston | Metropolitan Boston | 1/30/1991 | 10/8/1992, 57 FR 46310 |
Letter from the MassDEP, dated May 17, 1990 submitting a revision to the SIP | Statewide | 5/17/1990 | 12/14/1992, 57 FR 58993 |
Letter from the MassDEP, dated June 7, 1991, submitting a revision to the SIP | Statewide | 6/7/1991 | 12/14/1992, 57 FR 58993 |
Letter from the MassDEP, dated July 5, 1990, requesting the withdrawal of amendments to subsection 310 CMR 7.24(2)(c) which require Stage I vapor recovery in Berkshire County from the SIP revision package submitted on May 17, 1990 | Statewide | 7/5/1990 | 12/14/1992, 57 FR 58993 |
Letter from the MassDEP, dated April 21, 1992, submitting an implementation policy statement regarding its Stage II program | Statewide | 4/21/1992 | 12/14/1992, 57 FR 58993 |
Nonregulatory portions of the SIP submittal. March 2, 1992 Division of Air Quality Control Policy certified vapor collection and control system for Stage II Vapor Recovery Program | Statewide | 4/21/1992 | 12/14/1992, 57 FR 58993 |
Letter from the MassDEP submitting a revision to the SIP | Statewide | 11/13/1992 | 9/15/1993, 58 FR 48315 |
Letter from the MassDEP submitting a revision to the SIP | Statewide | 1/15/1993 | 9/15/1993, 58 FR 48315 |
Letter from the MassDEP submitting a revision to the SIP | Statewide | 2/17/1993 | 9/15/1993, 58 FR 48315 |
Nonregulatory portions of the SIP submittal. MassDEP's Listing of Response to Comments dated January 1993 | Statewide | 2/17/1993 | 9/15/1993, 58 FR 48315 |
Nonregulatory portions of the SIP submittal. MassDEP's Background Document for Proposed Amendments to 310 CCMR 7.00, et. al. “50 Ton VOC RACT Regulations” dated September 1992 | Statewide | 2/17/1993 | 9/15/1993, 58 FR 48315 |
Letter from the MassDEP submitting a revision to the SIP | Statewide | 8/26/1992 | 7/28/1994, 59 FR 38372 |
Letter from the MassDEP submitting a revision to the SIP | Statewide | 11/2/1990 | 7/28/1994, 59 FR 38372 |
Letter from the MassDEP submitting a revision to the SIP |  | 7/19/1993 | 1/6/1995, 60 FR 2016 |
Letter dated October 27, 1993 from MassDEP submitting certification of a public hearing |  | 10/27/1993 | 1/6/1995, 60 FR 2016 |
Letter from the MassDEP submitting a revision to the SIP | Metropolitan Boston | 12/9/1991 | 10/4/1994, 59 FR 50495 |
Letter from the MassDEP submitting a revision to the SIP which substitutes the California Low Emission Vehicle program for the Clean Fuel Fleet program | Statewide | 11/15/1993 | 2/1/1995, 60 FR 6027 |
Letter from the MassDEP submitting a revision to the SIP which substitutes the California Low Emission Vehicle program for the Clean Fuel Fleet program | Statewide | 5/11/1994 | 2/1/1995, 60 FR 6027 |
Letter from the MassDEP submitting a revision to the SIP | Statewide | 3/31/1994 | 3/6/1995, 60 FR 12123 |
Letter from the MassDEP dated June 6, 1994 submitting a revision to the Massachusetts SIP | Statewide | 6/6/1994 | 4/1/1995, 60 FR 17226 |
Letter from the MassDEP dated December 9, 1994 | Statewide | 12/9/1994 | 4/1/1995, 60 FR 17226 |
Letter from the MassDEP, submitting a revision to the SIP | Statewide | 6/28/1990 | 3/21/1996, 61 FR 11556 |
Letter from the MassDEP submitting a revision to the SIP | Statewide | 9/30/1992 | 3/21/1996, 61 FR 11556 |
Letter from the MassDEP, dated July 15, 1994, submitting a revision to the SIP | Statewide | 7/15/1994 | 3/21/1996, 61 FR 11556 |
Letter from the MassDEP assuring EPA that the data elements noted in EPA's December 13, 1994 letter were being incorporated into the source registration forms used by Massachusetts emission statement program | Statewide | 12/30/1994 | 3/21/1996, 61 FR 11556 |
Letter which included the oxygenated gasoline program, amendments to the Massachusetts Air Pollution Control Regulations, 310 CMR 7.00, with an effective date of March 1, 1994, requesting that the submittal be approved and adopted as part of the SIP | Statewide | 10/29/1993 | 1/30/1996, 61 FR 2918 |
Letter from the MassDEP submitting a revision to the SIP | Metropolitan Boston | 12/12/1994 | 1/30/1996, 61 FR 2918 |
The Technical Support Document for the Redesignation of the Boston Area as Attainment for Carbon Monoxide | Metropolitan Boston | 12/12/1994 | 1/30/1996, 61 FR 2918 |
Letter from the MassDEP dated January 9, 1995 submitting a revision to the SIP | Statewide | 1/9/1995 | 12/19/1995, 60 FR 65240 |
Letter from the MassDEP, dated January 9, 1995, submitting a revision to the SIP | Statewide | 1/9/1995 | 2/14/1996, 61 FR 5696 |
Letter from the MassDEP submitting a revision to the SIP | Statewide | 3/29/1995 | 7/5/2000, 65 FR 41344 |
Letter from the MassDEP submitting a revision to the SIP (City of Boston/South Boston Parking Freeze) | Metropolitan Boston | 7/30/1993 | 10/15/1996, 61 FR 53628 |
Letter from the MassDEP submitting revisions to the SIP | Statewide | 2/9/1994 | 8/8/1996, 61 FR 41335 |
Letter from the MassDEP submitting revisions to the SIP | Statewide | 3/29/1995 | 8/8/1996, 61 FR 41335 |
Letter and attachments from the MassDEP submitting supplemental information concerning the demonstration of balance between credit creation and credit use | Statewide | 2/8/1996 | 8/8/1996, 61 FR 41335 |
Massachusetts PAMS Network Plan, which incorporates PAMS into the ambient air quality monitoring network of State or Local Air Monitoring Stations (SLAMS) and National Air Monitoring Stations (NAMS) | Statewide | 11/15/1993 | 7/14/1997, 62 FR 37510 |
Letter from the MassDEP dated December 30, 1993 submitting a revision to the SIP | Statewide | 12/30/1993 | 7/14/1997, 62 FR 37510 |
The Commonwealth, committed in a letter dated March 3, 1997 to correct deficiencies for an enhanced motor vehicle inspection and maintenance (I/M) program within one year of conditional interim approval by EPA | Statewide | 3/3/1997 | 7/14/1997, 62 FR 37510 |
Letter from the MassDEP submitting a revision to the SIP | Statewide | 10/17/1997 | 4/11/2000, 65 FR 19323 |
Letter from the MassDEP submitting a revision to the SIP | Statewide | 7/30/1996 | 4/11/2000, 65 FR 19323 |
Letter from the MassDEP submitting a revision to the SIP | Statewide | 8/9/2000 | 12/18/2000, 65 FR 78974 |
Letter from the MassDEP submitting a revision to the SIP | Statewide | 9/11/2000 | 12/18/2000, 65 FR 78974 |
Letter from the MassDEP dated submitting a revision to the SIP | Statewide | 7/25/1995 | 12/18/2000, 65 FR 78974 |
Letter from the MassDEP submitting a revision to the SIP | Statewide | 2/17/1993 | 9/2/1999, 64 FR 48297 |
Letter from the MassDEP submitting a revision to the SIP | Statewide | 12/19/1997 | 6/2/1999, 64 FR 29567 |
Letter from the MassDEP clarifying the program implementation process | Statewide | 3/9/1998 | 6/2/1999, 64 FR 29567 |
Letter from the MassDEP submitting revisions to the SIP | Statewide | 7/15/1994 | 9/2/1999, 64 FR 48095 |
Letter from the MassDEP submitting revisions to the SIP | Statewide | 10/4/1996 | 9/2/1999, 64 FR 48095 |
Letter from the MassDEP submitting revisions to the SIP | Statewide | 12/2/1996 | 9/2/1999, 64 FR 48095 |
Letter from the MassDEP submitting revisions to the SIP | Statewide | 1/11/1999 | 9/2/1999, 64 FR 48095 |
Letter from the MassDEP submitting revisions to the SIP | Statewide | 4/16/1999 | 9/2/1999, 64 FR 48095 |
Nonregulatory portions of the SIP submittal | Statewide | 1/11/1995 | 4/11/2000, 65 FR 19323 |
Nonregulatory portions of the SIP submittal | Statewide | 3/29/1995 | 4/11/2000, 65 FR 19323 |
A September 17, 1999, Notice of Correction submitted by the Secretary of State indicating the effective date of the regulations | Statewide | 9/17/1999 | 11/15/2000, 65 FR 68898 |
Letter from the MassDEP submitting a revision to the SIP | Statewide | 5/14/1999 | 11/15/2000, 65 FR 68898 |
Letter from the MassDEP submitting a revision to the SIP | Statewide | 2/1/2000 | 11/15/2000, 65 FR 68898 |
Letter from the MassDEP submitting a revision to the SIP | Statewide | 3/15/2000 | 11/15/2000, 65 FR 68898 |
Test Procedures and Equipment Specifications | Statewide | 2/1/2000 | 11/15/2000, 65 FR 68898 |
Acceptance Test Protocol | Statewide | 3/15/2000 | 11/15/2000, 65 FR 68898 |
Letter from the Commonwealth of Massachusetts, Executive Office of Environmental Affairs, Department of Environmental Protection submitting an amendment to SIP | Statewide | 11/19/1999 | 12/27/2000, 65 FR 81743 |
Background Document and Technical Support for Public Hearings on the Proposed Revisions to the SIP for Ozone, July, 1999 | Statewide | 7/1/1999 | 12/27/2000, 65 FR 81743 |
Supplemental Background Document and Technical Support for Public Hearings on Modifications to the July 1999 Proposal to Revise the SIP for Ozone, September, 1999 | Statewide | 9/1/1999 | 12/27/2000, 65 FR 81743 |
Table of Unit Allocations | Statewide | 9/1/1999 | 12/27/2000, 65 FR 81743 |
Letter from the MassDEP | Statewide | 4/10/2002 | 6/20/2003, 68 FR 36921 |
The SIP narrative “Technical Support Document for Public Hearings on Revisions to the State Implementation Plan for Ozone for Massachusetts, Amendments to Statewide Projected Inventory for Nitrogen Oxides,” dated March 2002 | Statewide | 3/21/2002 | 6/20/2003, 68 FR 36921 |
Letter from the MassDEP submitting revisions to the SIP | Statewide | 7/15/1994 | 10/27/2000, 65 FR 64360 |
Letter from the MassDEP submitting revisions to the SIP | Statewide | 3/29/1995 | 10/27/2000, 65 FR 64360 |
Plan Approval issued by the MassDEP to the Gillette Company Andover Manufacturing Plant | Statewide | 6/17/1999 | 10/4/2002, 67 FR 62179 |
Letter from the MassDEP submitting negative declarations for certain VOC source categories | Statewide | 4/16/1999 | 10/4/2002, 67 FR 62179 |
Letter from the MassDEP discussing wood furniture manufacturing and aerospace coating requirements in Massachusetts | Statewide | 7/24/2002 | 10/4/2002, 67 FR 62179 |
Letter from the MassDEP submitting a revision to the SIP | Metropolitan Boston | 12/8/2000 | 3/12/2001, 66 FR 14318 |
Letter from the MassDEP submitting the final state certified copies of State regulations 310 CMR 7.30 “Massport/Logan Airport Parking Freeze” and 310 CMR 7.31 “City of Boston/East Boston Parking Freeze.” | Metropolitan Boston | 12/26/2000 | 3/12/2001, 66 FR 14318 |
Letter from the MassDEP, in which it submitted the Low Emission Vehicle Program adopted on December 24, 1999 | Statewide | 8/9/2002 | 12/23/2002, 67 FR 78179 |
Letter from the MassDEP which clarified the August 9, 2002 submittal to exclude certain sections of the Low Emission Vehicle Program from consideration | Statewide | 8/26/2002 | 12/23/2002, 67 FR 78179 |
Letter from the MassDEP submitting a revision to the SIP | Metropolitan Boston | 7/12/2006 | 2/15/2008, 73 FR 8818 |
Massachusetts Regulation Filing amending 310 CMR 7.38 entitled “Certification of Tunnel Ventilation Systems in the Metropolitan Boston Air Pollution Control District.” | Metropolitan Boston | 12/13/2005 | 2/15/2008, 73 FR 8818 |
Massachusetts Regulation Filing amending 310 CMR 7.28 entitled “NOx Allowance Trading Program,” and adopting 310 CMR 7.32 entitled “Massachusetts Clean Air Interstate Rule (Mass CAIR).” | Statewide | 4/19/2007 | 12/3/2007, 72 FR 67854 |
Massachusetts Regulation Filing substantiating December 1, 2006, State effective date for amended 310 CMR 7.00 entitled “Definition,” (addition of term “Boston Metropolitan Planning Organization,” which appears on the replaced page 173 of the State's Code of Massachusetts Regulations,) and 310 CMR 7.36 entitled “Transit System Improvements.” | Metropolitan Boston | 11/16/2006 | 7/31/2008, 73 FR 44654 |
Letter from the MassDEP dated December 13, 2006 submitting a revision to the SIP | Metropolitan Boston | 12/13/2006 | 7/31/2008, 73 FR 44654 |
Letter from the MassDEP submitting a revision to the SIP | Metropolitan Boston | 6/1/2007 | 7/31/2008, 73 FR 44654 |
Letter from the Massachusetts Executive Office of Transportation identifying its commitment to the Green Line extension and to make every effort to accelerate the planning, design and environmental review and permitting of the project in order to work towards the 2014 completion date | Metropolitan Boston | 9/4/2007 | 7/31/2008, 73 FR 44654 |
Letter from the Chair of the Boston Region Metropolitan Planning Organization concurring in the finding that the transit system improvements projects will achieve emission benefits equivalent to or greater than the benefits from the original transit system improvements projects being replaced | Metropolitan Boston | 5/1/2008 | 7/31/2008, 73 FR 44654 |
Letter from EPA New England Regional Administrator concurring in the finding that the transit system improvements projects will achieve emission benefits equivalent to or greater than the benefits from the original transit system improvements projects being replaced | Metropolitan Boston | 7/5/2008 | 7/31/2008, 73 FR 44654 |
Letter from the MassDEP, dated June 1, 2009, submitting a revision to the SIP | Statewide | 6/1/2009 | 01/25/2013, 78 FR 5292 |
Letter from the MassDEP, dated November 30, 2009, amending the June 1, 2009 SIP submittal | Statewide | 11/30/2009 | 01/25/2013, 78 FR 5292 |
Massachusetts June 1, 2009 SIP Revision Table of Contents Item 7, “Documentation of IM SIP Revision consistent with 42 USC Section 7511a and Section 182(c)(3)(A) of the Clean Air Act.” | Statewide | 6/1/2009 | 01/25/2013, 78 FR 5292 |
“Massachusetts Regional Haze State Implementation Plan” dated August 9, 2012 | Statewide | 8/9/2012 | 9/19/2013, 78 FR 57487 |
A letter from the MassDEP dated August 9, 2001 submitting a revision to the SIP | Statewide | 8/9/2001 | 4/24/2014, 79 FR 22774 |
A letter from the MassDEP dated September 14, 2006 submitting a revision to the SIP | Statewide | 9/14/2006 | 4/24/2014, 79 FR 22774 |
A letter from the MassDEP dated February 13, 2008 submitting a revision to the SIP | Statewide | 2/13/2008 | 4/24/2014, 79 FR 22774 |
A letter from the MassDEP dated January 18, 2013 withdrawing certain outdated and obsolete regulation submittals and replacing them with currently effective versions of the regulation for approval and inclusion into the SIP | Statewide | 1/18/2013 | 4/24/2014, 79 FR 22774 |
A letter from the MassDEP dated November 6, 2013 submitting a revision to the SIP | Statewide | 11/6/2013 | 12/8/2015, 80 FR 76225 |
A letter from the MassDEP dated May 5, 2015 submitting a revision to the SIP | Statewide | 5/5/2015 | 11/29/2016, 81 FR 85897 |
³ To determine the EPA effective date for a specific provision listed in this table, consult the Federal Register notice cited in this column for the particular provision.

[FR Doc. 2018-01513 Filed 1-26-18; 8:45 am]

BILLING CODE 6560-50-P